COMMITTEE FOR THE IMPLEMENTATION OF TEXTILE AGREEMENTS

Adjustment of Import Limits for Certain Cotton and Man-Made Fiber Textile Products Produced or Manufactured in the Socialist Republic of Vietnam

December 22, 2006.

AGENCY: Committee for the Implementation of Textile Agreements (CITA).

ACTION: Issuing a directive to the Commissioner, U.S. Customs and Border Protection.

EFFECTIVE DATE: December 29, 2006.

FOR FURTHER INFORMATION CONTACT: Ross Arnold, International Trade Specialist, Office of Textiles and Apparel, U.S. Department of Commerce, (202) 482-4212. For information on the quota status of these limits, refer to the U.S. Customs and Border Protection Web site (http://www.cbp.gov), or call (202) 344-2650. For information on embargoes and quota re-openings, refer to the Office of Textiles and Apparel Web site at http://otexa.ita.doc.gov.

SUPPLEMENTARY INFORMATION:

Authority: Section 204 of the Agricultural Act of 1956, as amended (7 U.S.C. 1854); Executive Order 11651 of March 3, 1972, as amended.

The Bilateral Textile Agreement of July 17, 2003, as amended, between the Governments of the United States and the Socialist Republic of Vietnam, establishes limits, until the Socialist Republic of Vietnam's entry into the World Trade Organization (WTO), for certain cotton, wool and man-made fiber textiles and textile products, produced or manufactured in the Socialist Republic of Vietnam. The current limits for certain categories are being increased for carryforward applied from the 2007 limits, and the limits for 2007 are being reduced to account for this carryforward being applied to the current limits.

A description of the textile and apparel categories in terms of HTS numbers is available in the CORRELATION: Textile and Apparel Categories with the Harmonized Tariff Schedule of the United States (refer to the Office of Textiles and Apparel Web site at http://otexa.ita.doc.gov). See 70 FR 75156 (December 19, 2005), and 70 FR 76998 (December 22, 2006) respectively.

Philip J. Martello,
Acting Chairman, Committee for the Implementation of Textile Agreements.

Committee for the Implementation of Textile Agreements

December 22, 2006.

Commissioner,

U.S. Customs and Border Protection, Washington, DC 20229

Dear Commissioner: This directive amends, but does not cancel, the directives issued to you on December 13, 2005 and December 19, 2006, by the Chairman, Committee for the Implementation of Textile Agreements. These directives concern imports of certain cotton, wool, and man-made fiber textiles and textile products, produced or manufactured in Vietnam and exported during the twelve-month period which began on January 1, 2006 and extends through December 31, 2006, and the twelve-month period which begins on January 1, 2007 and extends through December 31, 2007, respectively.

Effective on December 29, 2006, you are directed to increase the 2006 limits for the following categories, as provided for under the terms of the current bilateral textile agreement between the Governments of the United States and Vietnam:

Category | Restraint limit ¹
200 | 151,132 kilograms.
332 | 241,370 dozen pairs.
334/335 | 903,044 dozen.
338/339 | 18,464,333 dozen.
340/640 | 2,697,101 dozen.
341/641 | 1,044,925 dozen.
342/642 | 774,271 dozen.
347/348 | 9,740,910 dozen.
359-S/659-S ² | 720,326 kilograms.
440 | 2,945 dozen.
620 | 8,731,714 square meters.
632 | 405,529 dozen pairs.
638/639 | 1,637,741 dozen.
647/648 | 2,585,569 dozen.
¹ The limits have not been adjusted to account for any imports exported after December 31, 2005.
² Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.

Also, effective on December 29, 2006, you are directed to reduce the 2007 limits for the following categories, as provided for under the terms of the current bilateral textile agreement between the Governments of the United States and Vietnam:

Category | Restraint limit ¹
200 | 371,188 kilograms.
332 | 1,237,293 dozen pairs.
334/335 | 798,278 dozen.
338/339 | 16,238,783 dozen.
340/640 | 2,457,533 dozen.
341/641 | 942,299 dozen.
342/642 | 686,600 dozen.
347/348 | 8,670,346 dozen.
359-S/659-S ² | 649,579 kilograms.
440 | 2,606 dozen.
620 | 7,874,136 square meters.
632 | 625,966 dozen pairs.
638/639 | 1,476,892 dozen.
647/648 | 2,401,605 dozen.
¹ The limits have not been adjusted to account for any imports exported after December 31, 2006.
² Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.

The Committee for the Implementation of Textile Agreements has determined that these actions fall within the foreign affairs exception to the rulemaking provisions of 5 U.S.C. 553(a)(1).

Sincerely,

Philip J. Martello,

Acting Chairman, Committee for the Implementation of Textile Agreements.

[FR Doc. E6-22347 Filed 12-28-06; 8:45 am]

BILLING CODE 3510-DS-S